DEPARTMENT OF LABOR

Employment and Training Administration

[TA-W-63,606]

Lakeland Mold Co. Stow, OH; Notice of Termination of Investigation

Pursuant to Section 221 of the Trade Act of 1974, as amended, an investigation was initiated on June 27, 2008, in response to a worker petition filed by a company official on behalf of workers at Lakeland Mold Co., Stow, Ohio.

The petitioner has requested that the petition be withdrawn. Consequently, the investigation has been terminated.

Signed at Washington, DC, this 22nd day of July 2008.
Elliott S. Kushner,
Certifying Officer, Division of Trade Adjustment Assistance.

[FR Doc. E8-17376 Filed 7-29-08; 8:45 am]

BILLING CODE 4510-FN-P